DEPARTMENT OF EDUCATION

[CFDA No: 84.047A]

Office of Postsecondary Education, Upward Bound Program Participant Expansion Initiative Notice Inviting Applications for Supplemental Awards for Fiscal Year (FY) 2000

Purpose of Program: The Upward Bound Program Participant Expansion Initiative is designed to increase the number of the neediest eligible students in the Upward Bound program.

Eligible Applicants: All currently funded Upward Bound projects. Veteran Upward Bound projects and Upward Bound Math/Science projects are not eligible to participate.

Deadline for Transmittal of Applications: August 28, 2000.

Deadline for Intergovernmental Review: September 12, 2000.

Applications Available: July 26, 2000.

Available Funds: $13,500,000.

Estimated Range of Awards: Up to $85,600.

Estimated Average Size of Awards: $76,270.

Estimated Number of Awards: 157-177.

Note: The Department is not bound by any estimates in this notice.

Project Period: Up to 36 months for current 4-year grantees; up to 48 months for current 5-year grantees.

Applicable Regulations: (a) The Education Department General Administrative Regulations (EDGAR) in 34 CFR parts 74, 75, 77, 79, 82, 85, 86, 97, 98, and 99; and (b) the regulations for this program in 34 CFR part 645.

SUPPLEMENTARY INFORMATION: Only proposals that meet the absolute priority will be funded. If more applications that meet the absolute priority are received than can be funded under the Upward Bound Program Participant Expansion Initiative, the Secretary will fund those applicants that received the highest average peer review scores during the FY 1999 Upward Bound competition. For the purposes of this initiative, the Secretary will not consider prior experience points.

Applicants for supplemental awards must submit an application that contains:

• A certification by the Upward Bound project director that at least one target high school meets the absolute priority;

• The number of additional students, not to exceed 20, that the project plans to serve;

• A revised budget; and

• A brief narrative describing how the supplemental funds will be used.

Priorities

Absolute Priority: Under 34 CFR 75.105(c)(3), the Secretary gives an absolute preference to applications that meet the following priority, which is published elsewhere in this issue of the Federal Register. The Secretary funds only applications that meet this absolute priority:

A project funded under this priority must serve a target high school in which at least 50 percent of the students were eligible for the Free Lunch Program during the 1998-99 school year.

Invitational Priority: Within the absolute priority specified in this notice, the Secretary is particularly interested in applications that meet the following invitational priority. However, under 34 CFR 75.105(c)(1) an application that meets this invitational priority does not receive competitive preference over other applications.

The Secretary strongly encourages projects that receive supplemental funds to enhance their recruitment strategies and services to target high schools to select and serve students who are at greatest risk of not graduating from high school or pursuing postsecondary education.

FOR APPLICATIONS OR INFORMATION CONTACT: Peggy Whitehead, Sheryl Wilson, or Gaby Watts, U.S. Department of Education, 1990 K Street, NW, Room 7020, Washington, DC 20006-8510. Telephone (202) 502-7600. The email address for The Office of Federal TRIO Programs is: Trio@ed.gov.

The email addresses for Ms. Whitehead, Ms. Wilson and Ms. Watts are:

Peggy_Whitehead@ed.gov

Sheryl_Wilson@ed.gov

Gaby_Watts@ed.gov

Individuals who use a telecommunications device for the deaf (TDD) may call the Federal Information Relay Service (FIRS) at 1-888-877-8339.

Individuals with disabilities may obtain this document in an alternate format (e.g., Braille, large print, audiotape, or computer diskette) on request to the contact persons listed in the preceding paragraph. However, the Department is not able to reproduce in an alternate format the standard forms included in the application package.

Electronic Access to This Document

You may view this document, as well as all other Department of Education documents published in the Federal Register, in text or Portable Document Format (PDF) on the Internet at either of the following sites:

http://ocfo.ed.gov/fedreg.htm

http://www.ed.gov/news.html

To use PDF you must have Adobe Acrobat Reader which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1070.

Dated: July 17, 2000.
A. Lee Fritschler,
Assistant Secretary, Office of Postsecondary Education.

[FR Doc. 00-18591 Filed 7-21-00; 8:45 am]

BILLING CODE 4000-01-P